DEPARTMENT OF THE TREASURY

Submission for OMB review; Comment Request

February 4, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 13, 2000, to be assured of consideration.

Bureau of Alcohol, Tobacco and Firearms (BATF)

OMB Number: 1512-0002.

Form Number: ATF F 1600.7.

Type of Review: Extension.

Title: ATF Distribution Center Contractor Survey.

Description: Information provided on ATF F 1600.7 is used to evaluate the Bureau's Distribution Center contractor and the services it provides the users of ATF forms and publications.

Respondents: Business or other for-profit, Individuals or households.

Estimated Number of Respondents: 21,000.

Estimated Burden Hours Per Respondent: 5 minutes.

Frequency of Response: On occasion.

Estimated Total Reporting Burden: 168 hours.

OMB Number: 1512-0020.

Form Number: ATF F 9 (5320.9).

Type of Review: Extension.

Title: Application and Permit for Permanent Exportation of Firearms.

Description: This form is used to obtain permission to export firearms and services as a vehicle to allow either the removal of the firearm from registration in the national Firearms Registration and Transfer Record or collection of an excise tax. It is used by Federal firearms licensees and others to obtain a benefit and by ATF to determine and collect taxes.

Respondents: Business or other for-profit, Individuals or households.

Estimated Number of Respondents: 70.

Estimated Burden Hours Per Respondent: 18 minutes.

Frequency of Response: On occasion.

Estimated Total Reporting Burden: 1,050 hours.

OMB Number: 1512-0022.

Form Number: ATF F 5320.20.

Type of Review: Extension.

Title: Application to Transport Interstate or Temporarily Export Certain National Firearms Act (NFA) Firearms.

Description: This form is used to request permission to move certain NFA firearms in interstate or foreign commerce.

Respondents: Individuals or households.

Estimated Number of Respondents: 800.

Estimated Burden Hours Per Respondent: 30 minutes.

Frequency of Response: On occasion.

Estimated Total Reporting Burden: 400 hours.

OMB Number: 1512-0341.

Recordkeeping Requirement ID Number: ATF REC 5150/8.

Type of Review: Extension.

Title: Stills: Notices, Registration, and Records.

Description: The information collection is used to account for and regulate the distillation of distilled spirits to protect the revenue and to provide for identification of distillers.

Respondents: Business or other for-profit.

Estimated Number of Recordkeepers: 10.

Estimated Burden Hours Per Recordkeeper: 30 minutes.

Frequency of Response: On occasion.

Estimated Total Recordkeeping Burden: 21 hours.

OMB Number: 1512-0354.

Recordkeeping Requirement ID Number: ATF REC 5170/3.

Type of Review: Extension.

Title: Stills: Retain Liquor Dealers Records of Receipts of Alcoholic Beverages and Commercial Invoices.

Description: Audit trail records show amount purchased and from whom; complete final audit trail established at distilled spirits plant. Protection of the revenue. The collection of information is contained in 27 CFR 194.234.

Respondents: Business or other for-profit.

Estimated Number of Recordkeepers: 455,000.

Estimated Burden Hours Per Recordkeeper: 1 hour.

Estimated Total Recordkeeping Burden: 1 hour.

OMB Number: 1512-0357.

Recordkeeping Requirements ID Number: ATF REC 5170/6.

Type of Review: Extension.

Title: Wholesale Dealers Applications, Letterheads, and Notices Relating to Operations (variations in format or preparation of records).

Description: This recordkeeping requirement pertains only to those wholesale liquor and beer dealers submitting applications for a variance from the regulations dealing with preparation, format, type or place of retention of records of receipt or disposition for alcoholic beverages.

Respondents: Business or other for-profit.

Estimated Number of Recordkeepers: 1,029.

Estimated Burden Hours Per Recordkeeper: 30 minutes.

Frequency of Response: On occasion.

Estimated Total Recordkeeping Burden: 515 hours.

OMB Number: 1512-0384.

Recordkeeping Requirement ID Number: ATF REC 5620/2.

Type of Review: Extension.

Title: Airlines Withdrawing Stock from Customs Custody.

Description: Airlines may withdraw tax exempt distilled spirits, wine, and beer from Customs custody for foreign flights. Required record shows amount of spirits and wine withdrawn and flight identification; also has customs certification; enables ATF to verify that tax is not due; allows spirits and wines to be traced and maintains accountability. Protects tax revenue. The collection of information is contained in 27 CFR 252.80 and 252.81.

Respondents: Business or other for-profit.

Estimated Number of Recordkeepers: 25.

Estimated Burden Hours Per Recordkeeper: 100 hours.

Frequency of Response: On occasion.

Estimated Total Recordkeeping Burden: 2,500 hours.

Clearance Officer: Robert N. Hogarth (202) 927-8930, Bureau of Alcohol, Tobacco and Firearms, Room 3200, 650 Massachusetts Avenue, N.W., Washington, DC 20226.

OMB Reviewer: Alexander T. Hunt (202) 395-7860 Office of Management and Budget, Room 10202, New Executive Office Building, Washington, DC 20503.

Lois K. Holland,
Departmental Reports Management Officer.

[FR Doc. 00-3165 Filed 2-10-00; 8:45 am]

BILLING CODE 4810-13-U